DEPARTMENT OF COMMERCE

National Oceanic and Atmospheric Administration

RIN 0648-XG490

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a meeting of its Law Enforcement Technical Committee (LETC), in conjunction with the Gulf States Marine Fisheries Commission's Law Enforcement Committee (LEC).

DATES: The meeting will convene on Wednesday, October 17, 2018; starting 8:30 a.m. and will adjourn at 5 p.m.

ADDRESSES: The meeting will be held at the Isla Grand Beach Resort, located at 500 Padre Boulevard, South Padre Island, TX 78597; telephone: (956) 761-6511.

Council address: Gulf of Mexico Fishery Management Council, 4107 W Spruce Street, Suite 200, Tampa, FL 33607; telephone: (813) 348-1630.

FOR FURTHER INFORMATION CONTACT: Dr. Ava Lasseter, Anthropologist, Gulf of Mexico Fishery Management Council; ava.lasseter@gulfcouncil.org, telephone: (813) 348-1630, and Mr. Steve Vanderkooy, Inter-jurisdictional Fisheries (IJF) Coordinator, Gulf States Marine Fisheries Commission; svanderkooy@gsmfc.org, telephone: (228) 875-5912.

SUPPLEMENTARY INFORMATION: The items of discussion on the agenda are as follows:

Joint Gulf Council's Law Enforcement Technical Committee and Gulf States Marine Fisheries Commission's Law Enforcement Committee Meeting Agenda

Wednesday, October 17, 2018, 8:30 a.m. Until 5 p.m.

1. Introductions and Adoption of Agenda

2. Approval of Minutes (Joint Meeting March 13, 2018)

3. Election of Joint Committee Chair and Vice-Chair

Gulf Council LETC Items

4. State Management Amendments

5. Commercial Individual Fishing Quota (IFQ) Program Modifications

a. Amendment Review

b. Landing Notification Issue

6. Coral 9 Habitat Areas of Particular Concern (HAPCs) Update on Final Action

7. New “Fish Rules” Regulations App

8. GMFMC Enforcement Team of the Year Award

Joint LETC/LEC Items

9. 2019-20 Operations Plan

10. Overview of Current Illegal, Unreported and Unregulated (IUU) Fishing Issues

a. Texas/Mexico Lanchas

b. Domestic Fishing

GSMFC LEC Items

11. Future of Joint Enforcement Agencies (JEAs) and JEA Funding Discussion

12. Fish Attracting Devices (FADs); Misuse and Management

13. IJF Program Activity

a. Cobia Profile

b. New Species TBD

c. Annual License and Fees

d. Law Summary (red book)

14. State Report Highlights

a. Florida

b. Alabama

c. Mississippi

d. Louisiana

e. Texas

f. U.S. Coast Guard

g. NOAA Office of Law Enforcement

h. U.S. Fish and Wildlife Service

15. Other Business

—Meeting Adjourns

The Agenda is subject to change, and the latest version along with other meeting materials will be posted on www.gulfcouncil.org as they become available.

The Law Enforcement Technical Committee consists of principal law enforcement officers in each of the Gulf States, as well as the NOAA Law Enforcement, U.S. Fish and Wildlife Service, the U.S. Coast Guard, and the NOAA General Counsel for Law Enforcement.

Although other non-emergency issues not on the agenda may come before this group for discussion, in accordance with the Magnuson-Stevens Fishery Conservation and Management Act, those issues may not be the subject of formal action during this meeting. Actions will be restricted to those issues specifically identified in the agenda and any issues arising after publication of this notice that require emergency action under section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Dated: September 19, 2018.
Tracey L. Thompson,
Acting Deputy Director, Office of Sustainable Fisheries, National Marine Fisheries Service.

[FR Doc. 2018-20717 Filed 9-21-18; 8:45 am]

BILLING CODE 3510-22-P